DEPARTMENT OF HEALTH AND HUMAN SERVICES

Centers for Disease Control and Prevention

[30Day-24-1348]

Agency Forms Undergoing Paperwork Reduction Act Review

In accordance with the Paperwork Reduction Act of 1995, the Centers for Disease Control and Prevention (CDC) has submitted the information collection request titled “The National Firefighter Registry for Cancer” to the Office of Management and Budget (OMB) for review and approval. CDC previously published a “Proposed Data Collection Submitted for Public Comment and Recommendations” notice on March 22, 2024, to obtain comments from the public and affected agencies. CDC received two comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Firefighter Registry for Cancer (OMB Control No. 0920-1348, Exp. 9/30/2024)—Revision—National Institute for Occupational Safety and Health (NIOSH), Centers for Disease Control and Prevention (CDC).

Background and Brief Description

In order to accurately monitor trends in cancer incidence and evaluate control measures among the U.S. fire service, Congress passed the Firefighter Cancer Registry Act of 2018. Under this legislation, CDC/NIOSH was directed to create a registry of U.S. firefighters for the purpose of monitoring cancer incidence and risk factors among the current U.S. fire service. Funding of the project was authorized through this legislation for five years as of fiscal year 2019.

According the Firefighter Cancer Registry Act of 2018, the main goal of the National Firefighter Registry for Cancer (NFR) is “to develop and maintain . . . a voluntary registry of firefighters to collect relevant health and occupational information of such firefighters for purposes of determining cancer incidence.” Results from the NFR will provide information for decision makers within the fire service and medical or public health community to devise and implement policies and procedures to lessen cancer risk and/or improve early detection of cancer among firefighters. NIOSH seeks a three-year renewal. The below table outlines the estimated time burden for participants enrolling in the NFR. There are three corresponding documents to be completed as part of the enrollment process: the Informed Consent, User Profile, and Enrollment Questionnaire. Select fire departments may have an additional Records Request. The estimated time burden for the Informed Consent and User Profile are five minutes each. There is an estimated 20 minute burden for the Enrollment Questionnaire, and 16 hours for the Records Request (applicable to an estimated 34 firefighters). CDC requests OMB approval for a total estimated annual burden of 44,987 hours. There is no cost to respondents other than their time to participate.

Estimated Annualized Burden Hours
Type of respondents | Form name | Number of respondents | Number of responses per respondent | Average burden per response (in hours)
U.S. Firefighters | Informed Consent | 66,666 | 1 | 5/60
U.S. Firefighters | NFR User Profile (web-portal registration) | 66,666 | 1 | 5/60
U.S. Firefighters | NFR Enrollment Questionnaire | 66,666 | 1 | 30/60
U.S. Firefighters | Records request | 34 | 1 | 960/60

Jeffrey M. Zirger,
Lead, Information Collection Review Office, Office of Public Health Ethics and Regulations, Office of Science, Centers for Disease Control and Prevention.

[FR Doc. 2024-17736 Filed 8-8-24; 8:45 am]

BILLING CODE 4163-18-P